DEPARTMENT OF TRANSPORTATION

Federal Railroad Administration

[Docket Number FRA-2019-0089]

Petition for Extension of Waiver of Compliance

Under part 211 of title 49 Code of Federal Regulations (CFR), this document provides the public notice that on August 16, 2024, and August 27, 2024, Norfolk Southern Corporation's operating subsidiary, Norfolk Southern Railway Company (NS), petitioned the Federal Railroad Administration (FRA) for an extension of a waiver of compliance from certain provisions of the Federal railroad safety regulations contained at 49 CFR part 231 (Railroad Safety Appliance Standards). The relevant Docket Number is FRA-2019-0089.

In line with the requirements of § 231.6(a)(3)(i), on June 15, 1998, FRA issued Technical Bulletin MP&E 98-69, “Safety Appliance Arrangements on Flat Cars”, recommending an additional handhold for any flat car with a low-mounted side hand brake to allow for the safe operation of the hand brake while the car is in motion. NS seeks continued relief to permit these maintenance-of-way (MW) cars (CR 58535, NS 980011, and NS 986906) ¹ to remain in service with their current hand brake arrangement and without the additional handhold outlined in MP&E 98-69.

¹ Since the original waiver was approved, NS stated that 5 of the railcars have been retired and dismantled, and a sixth railcar from the original waiver is set to be retired and dismantled this year.

NS indicated it will not operate the hand brake on these MW cars while the cars are in motion and has added stenciling on the cars reading “DO NOT OPERATE HAND BRAKE WHILE CAR IS IN MOTION.” Additionally, a handling message is added on the NS Internal Alert System to notify employees of the above directive.

NS stated that there have been “no safety incidents involving this equipment” since the waiver was last granted. In support of the petition, NS explained that the cars remining in service with their current hand brake arrangement reduces the number of switching events that would be required to repair the added handholds. This, in turn, reduces the risk of injury and derailment.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by December 9, 2024 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-23334 Filed 10-8-24; 8:45 am]

BILLING CODE 4910-06-P